DEPARTMENT OF COMMERCE

National Oceanic and Atmospheric Administration

[I.D.112103C]

Proposed Information Collection; Comment Request; NOAA Space-Based Data Collection System (DCS) Agreements.

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 27, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Robert Bassett at 301-757-5681 or at Robert.Bassett@noaa.gov.

SUPPLEMENTARY INFORMATION:

I. Abstract

NOAA operates two space-based data collection systems: the Geostationary Operational Environmental Satellite (GOES) Data Collection System and the Argos Data Collection System. Both

systems are operated to support environmental applications. Since the entire capacity of the systems is not used by NOAA, this extra capacity is made available to other users who meet certain criteria set forth in 15 CFR Part 911.

II. Method of Collection

Applications are submitted on paper forms, which can be mailed or faxed to NOAA.

III. Data

OMB Number: 0648-0157.

Form Number: None.

Type of Review: Regular submission.

Affected Public: Not-for-profit institutions; business or other for-profit organizations; individuals or households; and State, Local, or Tribal Government.

Estimated Number of Respondents: 390.

Estimated Time Per Respons: 3 hours for a GOES application, and 1 hour for an Argos application.

Estimated Total Annual Burden Hours: 440.

Estimated Total Annual Cost to Public: $488.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 19, 2003.
Gwellnar Banks,
Management Analyst, Office of the Chief Information Officer.

[FR Doc. 03-29733 Filed 11-26-03; 8:45 am]

BILLING CODE 3510-22-S